DEPARTMENT OF THE TREASURY

Submission for OMB Review; Comment Request

March 1, 2007.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before April 6, 2007 to be assured of consideration.

Bureau of Public Debt (BPD)

OMB Number: 1535-0023.

Type of Review: Revision.

Title: Request To Reissue United States Savings Bonds.

Form: PD F 4000.

Description: Form is used by owners to identify the securities involved and to establish authority to reissue them.

Respondents: Individuals or Households.

Estimated Total Burden Hours: 270,000 hours.

OMB Number: 1535-0062.

Type of Review: Revision.

Title: Special Bond of Indemnity By Purchaser of United States Savings Bonds/Notes Involved in a Chain Letter Scheme.

Form: PD F 2966.

Description: Used by the purchaser of savings bonds in a chain letter scheme to request refund purchase price of the bonds.

Respondents: Individuals or Households.

Estimated Total Burden Hours: 319 hours.

OMB Number: 1535-0092.

Type of Review: Extension.

Title: Subscription For Purchase and Issue of U.S. Treasury Securities— State and Local Government Series.

Form: PD F 4144-, 4144-1, 2, 5, 6 and 7.

Description: The information is necessary to establish the accounts for owners of securities of State and Local Government Series.

Respondents: State, Local and Tribal Governments.

Estimated Total Burden Hours: 2500 hours.

OMB Number: 1535-0127.

Type of Review: Extension.

Title: Offering of U.S. Mortgage Guaranty Insurance Company Tax and Loss Bonds.

Form: 31 CFR Part 343.

Description: The Regulations governing the issue, reissue, and redemption of U.S. Mortgage Guaranty Insurance Company Tax and Loss Bonds.

Respondents: Business or other for-profits.

Estimated Total Burden Hours: 20 hours.

Clearance Officer: Vicki S. Thorpe, (304) 480-8150, Bureau of the Public Debt, 200 Third Street, Parkersburg, West Virginia 26106.

OMB Reviewer: Alexander T. Hunt, (202) 395-7316, Office of Management and Budget, Room 10235, New Executive Office Building, Washington, DC 20503.

Michael A. Robinson,
Treasury PRA Clearance Officer.

[FR Doc. E7-4084 Filed 3-6-07; 8:45 am]

BILLING CODE 4810-39-P